DEPARTMENT OF STATE

[Public Notice: 12868]

Notice of Department of State Sanctions Actions Pursuant to the Executive Order Regarding Blocking Property of Weapons of Mass Destruction Proliferators and Their Supporters

SUMMARY: The Department of State is publishing the names of one or more persons that have been placed on the Department of Treasury's List of Specially Designated Nationals and Blocked Persons (SDN List) administered by the Office of Foreign Asset Control (OFAC) based on the Department of State's determination, in consultation with other departments, as appropriate, that one or more applicable legal criteria of the Executive Order regarding blocking property of weapons of mass destruction proliferators and their supporters were satisfied. All property and interests in property subject to U.S. jurisdiction of these persons are blocked, and U.S. persons are generally prohibited from engaging in transactions with them.

DATES: See SUPPLEMENTARY INFORMATION section for applicable date(s).

FOR FURTHER INFORMATION CONTACT: Office of Counterproliferation Initiatives, Bureau of Arms Control and Nonproliferation, Department of State, Washington, DC 20520, tel.: (202) 647 5193, email: ACN_Sanctions@state.gov.

SUPPLEMENTARY INFORMATION:

Electronic Availability

The SDN List and additional information concerning OFAC sanctions programs are available on OFAC's website (https://www.treasury.gov/ofac).

Notice of Department of State Actions

On October 1, 2025, the Department of State, in consultation with other departments, as appropriate, determined that the property and interests in property subject to U.S. jurisdiction of the following persons are blocked under the relevant sanctions authority listed below.

Individuals

1. BAKOUEI, Ali (a.k.a. BAKOUIE, Ali; a.k.a. BAKU'I ZEINOLABEDIN, Ali; a.k.a. BAKU'I, Ali), Tehran, Iran; DOB 21 Mar 1966; POB Qom, Iran; nationality Iran; Additional Sanctions Information—Subject to Secondary Sanctions; Gender Male; Passport H62419567 (Iran) expires 27 Mar 2028; alt. Passport P72022539 (Iran) expires 16 Mar 2030 (individual) [NPWMD] [IFSR].

Designated pursuant to section 1(a)(ii) of Executive Order 13382 of June 28, 2005, “Blocking Property of Certain Persons with Respect to the Conventional Arms Activities of Iran,” (E.O. 13382) for having engaged, or attempted to engage, in activities or transactions that have materially contributed to, or pose a risk of materially contributing to, the proliferation of weapons of mass destruction or their means of delivery (including missiles capable of delivering such weapons), including any efforts to manufacture, acquire, possess, develop, transport, transfer or use such items, by Iran, a foreign country of proliferation concern.

2. KALVAND, Ali, Tehran, Iran; DOB 24 Feb 1981; POB Tehran, Iran; nationality Iran; Additional Sanctions Information—Subject to Secondary Sanctions; Gender Male; Passport G10535869 (Iran) expires 14 Jul 2029; alt. Passport N57400649 (Iran) expires 02 Jul 2027 (individual) [NPWMD] [IFSR].

Designated pursuant to section 1(a)(ii) of E.O. 13382 for having engaged, or attempted to engage, in activities or transactions that have materially contributed to, or pose a risk of materially contributing to, the proliferation of weapons of mass destruction or their means of delivery (including missiles capable of delivering such weapons), including any efforts to manufacture, acquire, possess, develop, transport, transfer or use such items, by Iran, a foreign country of proliferation concern.

3. FULADVAND, Ali (a.k.a. FOOLADVAND, Ali), Tehran, Iran; DOB 10 Sep 1979; nationality Iran; Additional Sanctions Information—Subject to Secondary Sanctions; Gender Male; National ID No. 4189670219 (Iran) (individual) [NPWMD] [IFSR].

Designated pursuant to section 1(a)(ii) of E.O. 13382 for having engaged, or attempted to engage, in activities or transactions that have materially contributed to, or pose a risk of materially contributing to, the proliferation of weapons of mass destruction or their means of delivery (including missiles capable of delivering such weapons), including any efforts to manufacture, acquire, possess, develop, transport, transfer or use such items, by Iran, a foreign country of proliferation concern.

4. MOZAFFARINIA, Reza (a.k.a. MOZAFARI-NIYA, Reza; a.k.a. MOZAFARNIA, Reza; a.k.a. MOZAFFARI NIA, Reza; a.k.a. MOZAFFARINIA HOSEIN, Reza; a.k.a. MOZAFFARI-NIA, Reza; a.k.a. MOZAFFARI-NIYA, Reza; a.k.a. MOZZAFARNIA, Dr. Reza); DOB 1959; POB Isfahan, Iran; Additional Sanctions Information—Subject to Secondary Sanctions; Deputy Defense Minister and Dean of Malek Ashtar University (individual) [NPWMD] [IFSR]. -to- MOZAFFARINIA, Reza (a.k.a. MOZAFARI-NIYA, Reza; a.k.a. MOZAFARNIA, Reza; a.k.a. MOZAFFARI NIA, Reza; a.k.a. MOZAFFARINIA HOSEIN, Reza; a.k.a. MOZAFFARI-NIA, Reza; a.k.a. MOZAFFARI-NIYA, Reza; a.k.a. MOZZAFARNIA, Reza), Iran; DOB 1959; POB Isfahan, Iran; nationality Iran; Additional Sanctions Information—Subject to Secondary Sanctions; Gender Male; National ID No. 1280856521 (Iran) (individual) [NPWMD] [IFSR].

Designated pursuant to section 1(a)(ii) of E.O. 13382 for having engaged, or attempted to engage, in activities or transactions that have materially contributed to, or pose a risk of materially contributing to, the proliferation of weapons of mass destruction or their means of delivery (including missiles capable of delivering such weapons), including any efforts to manufacture, acquire, possess, develop, transport, transfer or use such items, by Iran, a foreign country of proliferation concern.

5. GHADIR ZARE ZAGHALCHI, Mohammad Reza (a.k.a. ZARE' ZAGHALCHALI GHADIR, Mohammad Reza), Square Nowbonyad, Town Shahid Raja'i-Boluk 2 T 5 and 22 P, Tehran, Iran; DOB 24 Aug 1975; POB Sary, Iran; nationality Iran; Additional Sanctions Information—Subject to Secondary Sanctions; Gender Male; National ID No. 2092614517 (Iran) (individual) [NPWMD] [IFSR].

Designated pursuant to section 1(a)(ii) of E.O. 13382 for having engaged, or attempted to engage, in activities or transactions that have materially contributed to, or pose a risk of materially contributing to, the proliferation of weapons of mass destruction or their means of delivery (including missiles capable of delivering such weapons), including any efforts to manufacture, acquire, possess, develop, transport, transfer or use such items, by Iran, a foreign country of proliferation concern.

Entities

1. ANDISHEH DAMAVAND INTERNATIONAL TECHNOLOGIES (a.k.a. DAMAVAND ANDISHEH INTERNATIONAL TECHNOLOGIES INSTITUTE; a.k.a. DAMAVANDTEC), Number 13, 2nd Floor, Suite 3, Fourth Alley, Parandeh Street, Amirabad neighborhood, Central District, Tehran County, Tehran, Tehran Province, Iran; Additional Sanctions Information-Subject to Secondary Sanctions; Organization Established Date 13 Aug 2023; National ID No. 14012482516 (Iran); Registration Number 616779 (Iran) [NPWMD] [IFSR].

Designated pursuant to section 1(a)(ii) of E.O. 13382 for having engaged, or attempted to engage, in activities or transactions that have materially contributed to, or pose a risk of materially contributing to, the proliferation of weapons of mass destruction or their means of delivery (including missiles capable of delivering such weapons), including any efforts to manufacture, acquire, possess, develop, transport, transfer or use such items, by Iran, a foreign country of proliferation concern.

Renee P. Sonderman,
Acting Deputy Assistant Secretary, Bureau of Arms Control and Nonproliferation, Department of State.

[FR Doc. 2025-21202 Filed 11-25-25; 8:45 am]

BILLING CODE 4710-27-P